FEDERAL COMMUNICATIONS COMMISSION

47 CFR Parts 1 and 43

[WC Docket No. 11-10 and 19-195, FCC 19-79; FRS 16815]

Establishing the Digital Opportunity Data Collection; Modernizing the FCC Form 477 Data Program

AGENCY: Federal Communications Commission.

ACTION: Final rule; announcement of effective date.

SUMMARY: In this document, the Federal Communications Commission (Commission) announces that the Office of Management and Budget (OMB) has approved, for a period of three years, the information collection requirements associated with the Local Telephone Competition and Broadband Reporting, Report and Order, FCC Form 477. This document is consistent with the Report and Order, which stated that the Commission would publish a document in the Federal Register announcing OMB approval and the effective date of the information collection requirements.

DATES: Paragraphs 44 through 51 of the Report and Order, published at 84 FR 43705, August 22, 2019, are effective on June 29, 2020.

FOR FURTHER INFORMATION CONTACT: For additional information, contact Cathy Williams, Cathy.Williams@fcc.gov, (202) 418-2918.

SUPPLEMENTARY INFORMATION: This document announces that, on May 28, 2020, OMB approved the information collection requirements contained in the Commission's Report and Order, FCC 19-79, published at 84 FR 43705, August 22, 2019. The OMB Control Numbers are 3060-0816. The Commission publishes this document as an announcement of the effective date of the information collection requirements.

Synopsis

As required by the Paperwork Reduction Act of 1995 (44 U.S.C. 3507), the FCC is notifying the public that it received OMB approval on May 28, 2020, for the information collection requirements contained in the Commission's rules.

No person shall be subject to any penalty for failing to comply with a collection of information subject to the Paperwork Reduction Act that does not display a current, valid OMB Control Number. The OMB Control Numbers are 3060-0816.

The foregoing notice is required by the Paperwork Reduction Act of 1995, Public Law 104-13, October 1, 1995, and 44 U.S.C. 3507.

The total annual reporting burdens and costs for the respondents are as follows:

OMB Control Number: 3060-0816.

OMB Approval Date: May 28, 2020.

OMB Expiration Date: March 31, 2023.

Title: Local Telephone Competition and Broadband Reporting, Report and Order, FCC Form 477 (WC Docket No. 19-195, WC Docket No. 11-10, FCC 19-79).

Form Number: FCC Form 477.

Respondents: Business or other non-profit or for-profit entities; not-for-profit institutions; and state, local, or tribal government.

Number of Respondents: 2,515 respondents, 5,030 responses.

Estimated Time per Response: 348 hours.

Frequency of Response: Semi-annual reporting requirement.

Obligation to Respond: Required to obtain or retain benefits. The statutory authority for this collection of information is contained in 47 U.S.C. 4(i), 201, 218-220, 251-252, 271, 303(r), 332 and 403 of the Communications Act of 1934, as amended, and 47 U.S.C. 1302.

Total Annual Burden: Approximately 1,750,440 hours (for all respondents).

Total Annual Cost: No cost.

Privacy Impact Assessment: No impact(s).

Nature and Extent of Confidentiality: The Commission will no longer treat as confidential service providers' minimum advertised or expected speed data for mobile broadband services. Thus, provider-specific coverage data will be publicly released for all subsequent Form 477 filings. This action is necessary to ensure that consumers can easily use the information that is disclosed to the public, including minimum advertised or expected speed data, because such information is only beneficial if consumers know where service coverage is available.

Needs and Uses: On August 1, 2019, the Commission adopted a Report and Order, FCC 19-79, in WC Docket Nos. 19-195 and 11-10. The Order makes targeted changes to the existing Form 477 data collection to reduce reporting burdens for all filers and incorporate new technologies. The Order adopts the 5G-NR (New Radio) technology standards developed by the 3rd Generation Partnership Project (3GPP) with Release 15 and requires providers to submit 5G deployment data that meet the specifications of Release 15 (or any successor release that may be adopted by the Commission's Bureaus). These changes are necessary because the deployment data collected on Form 477 are no longer sufficient for targeting universal service funds. The actions to improve the Form 477 data collection will also increase the usefulness of the information to the Commission, Congress, the industry, and the public. The Order reduces the burden on broadband providers by removing the requirement that facilities-based providers submit separate coverage maps depicting their broadband network coverage areas for each transmission technology and each frequency band. It also modifies the requirement that mobile broadband providers report coverage information for each technology deployed in their networks by reducing the number of categories from nine to four. The Order also eliminates the requirement that facilities-based providers submit a list of census tracts in which the provider advertises its mobile wireless broadband service and in which the service is available to actual and potential subscribers. Finally, the Order removes the requirement that fixed providers offering business/enterprise/government services to report the maximum downstream and upstream contractual or guaranteed data throughput rate (committed information rate) available in each reported census block. As adopted by the Commission, the Order required mobile providers to submit broadband and voice subscriber data at the census-tract level based on the subscriber's place of primary use for postpaid subscribers and based on the subscriber's telephone number for prepaid and resold subscribers. These rules will not become effective as a result of the Broadband DATA Act (Broadband Deployment Accuracy and Technology Availability Act, Public Law 116-130, 134 Stat. 228 (2020) (codified at 47 U.S.C. 641-646)). The Broadband DATA Act directs the Commission to “continue to collect and publicly report subscription data that the Commission collected through the Form 477 broadband deployment service availability process, as in effect on July 1, 2019.” 47 U.S.C. 642(b)(6)(B), which became law on March 23, 2020.

Federal Communications Commission.
Marlene Dortch,
Secretary, Office of the Secretary.

[FR Doc. 2020-12135 Filed 6-26-20; 8:45 am]

BILLING CODE 6712-01-P